DEPARTMENT OF HOMELAND SECURITY

Coast Guard

33 CFR Part 165

[Docket No. USCG-2011-1126]

Security Zones; Seattle's Seafair Fleet Week Moving Vessels, Puget Sound, WA

AGENCY: Coast Guard, DHS.

ACTION: Notice of enforcement of regulation.

SUMMARY: The Coast Guard will enforce Seattle's Seafair Fleet Week Moving Vessels Security Zones from 12:00 p.m. on July 29, 2014 through 6:00 p.m. on August 4, 2014. These security zones are necessary to help ensure the security of the vessels from sabotage or other subversive acts during Seafair Fleet Week Parade of Ships. The designated participating vessels are the HMCS BRANDON (NCSM 710), the HMCS YELLOWKNIFE (NCSM 706), and the USCGC MELLON (WHEC 717). During the enforcement period, no person or vessel may enter or remain in the security zones without the permission of the Captain of the Port, Puget Sound or his designated representative. The COTP has granted general permission for vessels to enter the outer 400 yards of the security zones as long as those vessels within the outer 400 yards of the security zones operate at the minimum speed necessary to maintain course unless required to maintain speed by the navigation rules.

DATES: The regulations in 33 CFR 165.1333 will be enforced from 12:00 p.m. on July 29, 2014 through 6:00 p.m. on August 4, 2014, unless canceled sooner by the Captain of the Port, Puget Sound or his designated representative.

FOR FURTHER INFORMATION CONTACT: If you have questions on this notice, call or email LTJG Johnny Zeng, Sector Puget Sound Waterways Management, Coast Guard; telephone (206) 217-6323, SectorPugetSoundWWM@uscg.mil.

SUPPLEMENTARY INFORMATION:

The Coast Guard will enforce the security zones listed in 33 CFR 165.1333 for Seattle's Seafair Fleet Week Moving Vessels from 12:00 p.m. on July 29, 2014 through 6:00 p.m. on August 4, 2014.

In accordance with the general regulations in 33 CFR part 165, subpart D, no person or vessel may enter or remain in the security zones without the permission of the Captain of the Port(COTP), Puget Sound or his Designated Representative. For the purposes of this rule, the following areas are security zones: all navigable waters within 500 yards of the HMCS BRANDON (NCSM 710), the HMCS YELLOWKNIFE (NCSM 706), and the USCGC MELLON (WHEC 717) while each such vessel is in the Sector Puget Sound COTP Zone.

The COTP has granted general permission for vessels to enter the outer 400 yards of the security zones as long as those vessels within the outer 400 yards of the security zones operate at the minimum speed necessary to maintain course unless required to maintain speed by the navigation rules. The COTP may be assisted by other federal, state or local agencies with the enforcement of the security zones.

All vessel operators who desire to enter the inner 100 yards of the security zones or transit the outer 400 yards at greater than minimum speed necessary to maintain course must obtain permission from the COTP or a designated representative by contacting the on-scene Coast Guard patrol craft on VHF 13 or Ch 16. Requests must include the reason why movement within this area is necessary. Vessel operators granted permission to enter the security zones will be escorted by the on-scene Coast Guard patrol craft until they are outside of the security zones.

This document is issued under authority of 33 CFR 165.1333 and 5 U.S.C 552(a). In addition to this document, the Coast Guard will provide the maritime community with advanced notification of the security zones via the Local Notice to Mariners and marine information broadcasts on the day of the event.

Dated: July 16, 2014.
M. W. Raymond,
Captain, U.S. Coast Guard, Captain of the Port, Puget Sound.

[FR Doc. 2014-17601 Filed 7-24-14; 8:45 am]

BILLING CODE 9110-04-P